DEPARTMENT OF THE TREASURY

Internal Revenue Service

Agency Collection Activities; Requesting Comments Allocation of Expenses by Real Estate Mortgage Investment Conduits (REMIC)

AGENCY: Internal Revenue Service (IRS), Treasury.

ACTION: Notice and request for comments.

SUMMARY: The Internal Revenue Service, as part of its continuing effort to reduce paperwork and respondent burden, invites the general public and other federal agencies to take this opportunity to comment on proposed and/or continuing information collections, as required by the Paperwork Reduction Act of 1995. The IRS is soliciting comments concerning final regulations in Treasury Decisions (TD) 8366 and 8431 relating to information disclosures for the allocation of expenses by real estate mortgage investment conduits (REMIC).

DATES: Written comments should be received on or before May 27, 2025 to be assured of consideration.

ADDRESSES: Direct all written comments to Andres Garcia, Internal Revenue Service, Room 6526, 1111 Constitution Avenue NW, Washington, DC 20224, or by email to pra.comments@irs.gov. Include OMB Control No. 1545-1018 in the subject line of the message.

FOR FURTHER INFORMATION CONTACT: Requests for additional information or copies of this collection should be directed to Marcus McCrary, (470) 769-2001, at Internal Revenue Service, Room 6526, 1111 Constitution Avenue NW, Washington, DC 20224, or through the internet at marcus.w.mccrary@irs.gov.

SUPPLEMENTARY INFORMATION: The IRS is currently seeking comments concerning the following information collection tools, reporting, and record-keeping requirements:

Title: Allocation of Expenses by Real Estate Mortgage Investment Conduits.

OMB Control Number: 1545-1018.

Regulation Project Number: TD 8266 and 8431.

Abstract Internal Revenue Code (IRC) sections 67 and 6049 and their regulations provide rules for certain deductions and income, as well as information disclosure requirements regarding the income and deductions. Treasury Regulations section 1.67-3(f)(4)(ii) requires single-class REMICs to provide certain IRC section 67 information to a person holding a regular interest in the single-class REMIC pursuant to section 1.6049-7(e). Treasury Regulations section 1.6049-7(e) requires the REMIC to provide certain information to brokers and middlemen who request the information to complete information returns. Treasury Regulations Section 1.6049-7(f)(7) requires brokers and middlemen to furnish certain information to corporations, non-calendar year taxpayers, and other specified persons who requests the information and for whom the broker or middleman holds as a nominee a REMIC regular interest or a collateralized debt obligation.

Current Actions: There is no change to the previously approve collection.

Type of Review: Extension of a currently approved collection.

Affected Public: Business or other for-profit organizations.

Estimated Number of Responses: 9,725.

Estimated Time per Respondent: 6978 minutes.

Estimated Total Annual Burden Hours: 978.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: March 19, 2025.
Marcus W. McCrary,
Tax Analyst.

[FR Doc. 2025-05127 Filed 3-25-25; 8:45 am]

BILLING CODE 4830-01-P